DEPARTMENT OF COMMERCE

National Oceanic and Atmospheric Administration

[I.D. 080502F]

Pacific Fishery Management Council; Public Meeting

AGENCY: National Marine Fisheries Service (NMFS), National Oceanic and Atmospheric Administration (NOAA), Commerce.

ACTION: Notice of public meeting; public scoping meeting.

SUMMARY: The Pacific Fishery Management Council's (Council) Ad Hoc Allocation Committee (Committee) will hold a working meeting, which is open to the public.

DATES: The Committee meeting will be held Wednesday, August 28, 2002, from 1 p.m. until business for the day is completed. The Committee meeting will reconvene on Thursday, August 29, 2002, from 8 a.m. until business is completed.

ADDRESSES: The Committee meeting will be held at the Shilo Inn, 11707 NE Airport Way, Portland, OR 97220; telephone: (503) 252-5800.

Council address: Pacific Fishery Management Council, 7700 NE Ambassador Place, Suite 200, Portland, OR 97220-1384.

FOR FURTHER INFORMATION CONTACT: Mr. John DeVore, Groundfish Fishery Management Coordinator; telephone: (503) 820-2280.

SUPPLEMENTARY INFORMATION: The purpose of the Committee meeting is to develop options for allocations and other management measures for the 2003 Pacific Coast groundfish fishery. In addition, the Committee will evaluate current catch levels of overfished groundfish species and may propose inseason adjustments. The Committee will discuss the types of provisions that may be necessary to prevent further overfishing, to reduce bycatch of overfished species in the various groundfish fisheries, and to reduce bycatch in non-groundfish fisheries. The Committee will also review a new stock assessment and rebuilding analysis for yelloweye rockfish. No management actions will be decided by the Committee. The Committee's role will be development of recommendations for consideration by the Pacific Fishery Management Council at its September meeting in Portland, OR.

Additionally, the Council will solicit public scoping comments for preparing the 2003 Pacific Coast groundfish annual specifications Environmental Impact Statement at 4 p.m. on

August 28. This will be the Council's primary decision document for recommending harvest specifications and management measures for the 2003 Pacific Coast groundfish fishery.

Although nonemergency issues not contained in the meeting agenda may come before the Committee for discussion, those issues may not be the subject of formal Committee action during this meeting. Committee action will be restricted to those issues specifically listed in this notice and any issues arising after publication of this notice that require emergency action under section 305(c) of the Magnuson-Stevens Fishery Conservation and Management Act, provided the public has been notified of the Committee's intent to take final action to address the emergency.

Special Accommodations

This meeting is physically accessible to people with disabilities. Requests for sign language interpretation or other auxiliary aids should be directed to Ms. Carolyn Porter at (503) 820-2280 at least 5 days prior to the meeting date.

Dated: August 9, 2002.
Richard W. Surdi,
Acting Director, Office of Sustainable Fisheries, National Marine Fisheries Service.

[FR Doc. 02-20660 Filed 8-13-02; 8:45 am]

BILLING CODE 3510-22-S